DEPARTMENT OF COMMERCE

International Trade Administration

[C-489-502]

Certain Welded Carbon Steel Standard Pipe From Turkey: Extension of Time for Preliminary Results of Countervailing Duty Administrative Review.

AGENCY: Import Administration, International Trade Administration, Department of Commerce.

DATES: Effective Date: October 20, 2011.

FOR FURTHER INFORMATION CONTACT: Kristen Johnson, AD/CVD Operations, Office 3, Import Administration, International Trade Administration, U.S. Department of Commerce, 14th Street and Constitution Avenue NW., Washington, DC 20230; telephone: (202) 482-4793.

SUPPLEMENTARY INFORMATION:

Background Information

On April 27, 2011, the Department of Commerce (the Department) published a notice of initiation of the administrative review of the countervailing duty order on certain welded carbon steel standard pipe from Turkey covering the period of review January 1, 2010, through December 31, 2010. See Initiation of Antidumping and Countervailing Duty Administrative Reviews, 76 FR 23545 (April 27, 2011). The preliminary results are currently due no later than December 1, 2011.

Extension of Time Limit for Preliminary Results

Section 751(a)(3)(A) of the Tariff Act of 1930, as amended (the Act), requires the Department to make a preliminary determination within 245 days after the last day of the anniversary month of an order or finding for which a review is requested. Section 751(a)(3)(A) of the Act further states that if it is not practicable to complete the review within the time period specified, the administering authority may extend the 245-day period to issue its preliminary results by up to 120 days.

In this administrative review, the Department is conducting a review of the following respondents: Borusan Mannesmann Boru Sanayi ve Ticaret A.S., Borusan Istikbal Ticaret T.A.S., Tosyali dis Ticaret A.S., Toscelik Profil ve Sac Endustrisi A.S., Erbosan Erciyas Boru Sanayi ve Ticaret A.S., and the Government of the Republic of Turkey. There are 14 programs under review in addition to several newly alleged subsidies programs, which the Department initiated on October 13, 2011. See Memorandum to Melissa G. Skinner, Director, AD/CVD Operations, Office 3, from Robert Copyak, Senior Financial Analyst, AD/CVD Operations, Office 3, regarding “Decision Memorandum on New Subsidy and Program-wide Change Allegations,” (October 13, 2011).

Due to new subsidy allegations and the large number of companies and programs in this administrative review, we have determined that it is not practicable to complete the preliminary results of this review within the time period specified. Therefore, in accordance with section 751(a)(3)(A) of the Act, we are extending the time period for issuing the preliminary results of the review to 365 days. The preliminary results are now due no later than March 30, 2012. The final results continue to be due 120 days after publication of the notice of preliminary results.

This notice is issued and published in accordance with sections 751(a)(3)(A) and 777(i)(1) of the Act.

Dated: October 14, 2011.
Christian Marsh,
Deputy Assistant Secretary for Antidumping and Countervailing Duty Operations.

[FR Doc. 2011-27205 Filed 10-19-11; 8:45 am]

BILLING CODE 3510-DS-P